DEPARTMENT OF TRANSPORTATION

Federal Aviation Administration

[AC 187-1C]

Schedule of Charges Outside the United States

AGENCY: Federal Aviation Administration (FAA), DOT.

ACTION: Notice of availability.

SUMMARY: The Federal Aviation Administration (FAA) is announcing the availability of Advisory Circular (AC) 187-1C which transmits an updated schedule of charges for services of FAA Flight Standards Aviation Safety Inspectors outside the United States. The advisory circular has been updated in accordance with the procedures listed in 14 CFR Part 187, Appendix A.

DATES: This AC is effective on June 1, 2009.

ADDRESSES: How to obtain copies: A copy of this publication may be downloaded from: http://rgl.faa.gov/Regulatory_and_Guidance_Library/rgAdvisoryCircular.nsf/0/b38e4a75d8e55cae862575b6004e937a/$FILE/AC%20187-1C.pdf.

FOR FURTHER INFORMATION CONTACT: Dr. Geoff McIntyre, Flight Standards Service, AFS-51, Federal Aviation Administration, 800 Independence Avenue, SW., Washington, DC 20591, telephone (202) 385-8139.

Issued in Washington, DC, on May 14, 2009.
John W. McGraw,
Deputy Director, Flight Standards Service.

[FR Doc. E9-11926 Filed 5-20-09; 8:45 am]

BILLING CODE 4910-13-P